NUCLEAR REGULATORY COMMISSION

[Docket Nos. 50-247 and 50-286; NRC-2009-0322]

Entergy Nuclear Indian Point 2, LLC; Entergy Nuclear Indian Point 3, LLC; Entergy Nuclear Operations, Inc.; Notice of Withdrawal of Application for Amendment to Facility Operating License Nos. DPR-26 and DPR-64, Indian Point Nuclear Generating Unit Nos. 2 and 3

The U.S. Nuclear Regulatory Commission (the Commission) has granted the request of Entergy Nuclear Operations, Inc. (the licensee) to withdraw its July 8, 2008 application for proposed amendment to Facility Operating License Nos. DPR-26 and DPR-64 for Indian Point Nuclear Generating Unit Nos. 2 and 3, located in Westchester County, New York.

The proposed amendments would have added license conditions to support implementation of an extended inservice inspection interval for reactor vessel weld inspections.

The Commission had previously issued a Notice of Consideration of Issuance of Amendment published in the Federal Register on September 9, 2008 (73 FR 52416). However, by letter dated July 1, 2009, the licensee withdrew the proposed change.

For further details with respect to this action, see the application for amendment dated July 8, 2008, and the licensee's letter dated July 1, 2009, which withdrew the application for a license amendment. Documents may be examined, and/or copied for a fee, at the NRC's Public Document Room (PDR), located at One White Flint North, Public File Area O1 F21, 11555 Rockville Pike (first floor), Rockville, Maryland. Publicly available records will be accessible electronically from the Agencywide Documents Access and Management Systems (ADAMS) Public Electronic Reading Room on the internet at the NRC Web site, http://www.nrc.gov/reading-rm.html. Persons who do not have access to ADAMS or who encounter problems in accessing the documents located in ADAMS should contact the NRC PDR Reference staff by telephone at 1-800-397-4209, or 301-415-4737 or by e-mail to pdr@nrc.gov.

Dated at Rockville, Maryland, this 15th day of July 2009.
For the Nuclear Regulatory Commission.
John P. Boska,
Senior Project Manager, Plant Licensing Branch I-1, Division of Operating Reactor Licensing, Office of Nuclear Reactor Regulation.

[FR Doc. E9-17386 Filed 7-21-09; 8:45 am]

BILLING CODE 7590-01-P